DEPARTMENT OF TRANSPORTATION

Coast Guard

33 CFR Parts 95 and 177

[USCG-1998-4593]

RIN 2115-AF72

Revision to Federal Blood Alcohol Concentration (BAC) Standard for Recreational Vessel Operators: Delay of Effective Date

AGENCY: Coast Guard, Department of Transportation.

ACTION: Final rule; delay of effective date.

SUMMARY: In accordance with the memorandum of January 20, 2001, from the Assistant to the President and Chief of Staff, entitled “Regulatory Review Plan,” published in the Federal Register on January 24, 2001 (66 FR 7702), this action temporarily delays for 60 days the effective date of the rule entitled Revision to Federal Blood Alcohol Concentration (BAC) Standard for Recreational Vessel Operators, published in the Federal Register on January 10, 2001, 66 FR 1859. That rule concerns revising the Federal Blood Alcohol Concentration (BAC) standard under which a recreational vessel operator would be considered operating while “intoxicated”.

DATES: The effective date of the final rule amending 33 CFR parts 95 and 177 published in the Federal Register on January 10, 2001, at 66 FR 1859, is delayed for 60 days, from March 12, 2001, until May 11, 2001.

FOR FURTHER INFORMATION CONTACT: Carlton Perry, Project Manager, Office of Boating Safety, U.S. Coast Guard, by telephone at 202-267-0979.

SUPPLEMENTARY INFORMATION: To the extent that 5 U.S.C. section 553 applies to this action, it is exempt from notice and comment because it constitutes a rule of procedure under 5 U.S.C. section 553(b)(A). Alternatively, the Coast Guard's implementation of this action without opportunity for public comment, effective immediately upon publication today in the Federal Register, is based on the good cause exceptions in 5 U.S.C. section 553(b)(B) and 553(d)(3). Seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impracticable, as well as contrary to the public interest in the orderly promulgation and implementation of regulations. The imminence of the effective date is also good cause for making this action effective immediately upon publication.

Dated: January 31, 2001.
Terry M. Cross,
Rear Admiral, U.S. Coast Guard Assistant Commandant for Operations.

[FR Doc. 01-3208 Filed 2-8-01; 8:45 am]

BILLING CODE 4910-15-M